OFFICE OF NATIONAL DRUG CONTROL POLICY

Appointment of Members of Senior Executive Service Performance Review Board

AGENCY: Office of National Drug Control Policy (ONDCP).

ACTION: Notice of appointments.

SUMMARY: The following persons have been appointed to the ONDCP Senior Executive Service Performance Review Board: Ms. Martha Gagné (as Chair), Mr. Kemp Chester, Shannon Kelly and Ms. Michele Marx.

FOR FURTHER INFORMATION CONTACT: Please direct any questions to Brian Skinner, General Counsel, (202) 881-7731, Office of National Drug Control Policy, Executive Office of the President, Washington, DC 20503.

SUPPLEMENTARY INFORMATION: The authority for this notice is 5 U.S.C. 4314(c), which also requires each agency to establish, in accordance with regulations prescribed by the Office of Personnel Management, one or more SES Performance Review Boards. The Board shall review the initial appraisal of a senior executive's performance by the supervisor and recommend final action to the appointing authority regarding matters related to senior executive performance.

Dated: July 17, 2024.
Brian Skinner,
General Counsel.

[FR Doc. 2024-16047 Filed 7-25-24; 8:45 am]

BILLING CODE 3280-F5-P